DEPARTMENT OF EDUCATION

34 CFR Chapter III

[Docket ID ED-2014-OSERS-0068]

Final Priority; Rehabilitation Training: Rehabilitation Long-Term Training Program—Rehabilitation Specialty Areas

AGENCY: Office of Special Education and Rehabilitative Services, Department of Education.

ACTION: Final priority.

[CFDA Numbers: 84.129C, E, F, H, J, P, Q, R, and W.]

SUMMARY: The Assistant Secretary for Special Education and Rehabilitative Services announces a priority under the Rehabilitation Training: Rehabilitation Long-Term Training program. The Assistant Secretary may use this priority for competitions in fiscal year (FY) 2014 and later years in order to fund any of the rehabilitation specialty areas listed in this notice. The specific rehabilitation specialty areas to be funded in a given year will be listed in a notice inviting applications. This priority is designed to ensure that the Department funds high-quality rehabilitation programs in the following nine rehabilitation specialty areas of national need: Rehabilitation Administration (84.129C); Rehabilitation Technology (84.129E); Vocational Evaluation and Work Adjustment (84.129F); Rehabilitation of Individuals Who Are Mentally Ill (84.129H); Rehabilitation Psychology (84.129J); Rehabilitation of Individuals Who are Blind or Have Vision Impairments (84.129P); Rehabilitation of Individuals Who are Deaf or Hard of Hearing (84.129Q); Job Development and Job Placement Services (84.129R); and Comprehensive System of Personnel Development (84.129W). These programs must meet rigorous standards in order to provide rehabilitation professionals the training and qualifications necessary to meet the current challenges facing State vocational rehabilitation (VR) agencies and related agencies and assist individuals with disabilities in achieving high-quality employment outcomes.

DATES: Effective Date: This priority is effective August 22, 2014.

FOR FURTHER INFORMATION CONTACT: RoseAnn Ashby, U.S. Department of Education, 400 Maryland Avenue SW., room 5055, Potomac Center Plaza (PCP), Washington, DC 20202-2800. Telephone: (202) 245-7258 or by email: roseann.ashby@ed.gov.

If you use a telecommunications device for the deaf (TDD) or a text telephone (TTY), call the Federal Relay Service (FRS), toll free, at 1-800-877-8339.

SUPPLEMENTARY INFORMATION: Purpose of Program: The Rehabilitation Long-Term Training program provides financial assistance for projects that provide—

(1) Basic or advanced training leading to an academic degree in areas of personnel shortages in rehabilitation as identified by the Secretary;

(2) A specified series of courses or programs of study leading to the award of a certificate in areas of personnel shortages in rehabilitation as identified by the Secretary; and

(3) Support for medical residents enrolled in residency training programs in the specialty of physical medicine and rehabilitation.

Program Authority: 29 U.S.C. 772(b).

Applicable Program Regulations: 34 CFR parts 385 and 386.

We published a notice of proposed priority for this competition in the Federal Register on May 13, 2014 (79 FR 27236). That notice contained background information and our reasons for proposing this particular priority.

There are no differences between the proposed priority and this final priority.

Public Comment: In response to our invitation in the notice of proposed priority, 24 parties submitted comments on the proposed priority.

Generally, we do not address technical and other minor changes.

Analysis of Comments and Changes: An analysis of the comments and of any changes in the priority since publication of the notice of proposed priority follows.

Comment: The overwhelming majority of commenters were supportive of the priority. They pointed out that it is important to have rehabilitation professionals trained in meeting the needs of individuals with a variety of disabilities. In particular, a number of commenters discussed the value that rehabilitation professionals trained in vocational evaluation can add to the field of rehabilitation. Professionals trained in vocational evaluation have particular expertise in assisting individuals with disabilities in making employment and career choices consistent with their unique abilities, thereby helping to ensure that individuals with disabilities achieve their employment goals.

Discussion: We appreciate the commenters' support for this priority.

Changes: None.

Comment: Two commenters expressed concern regarding the requirement for scholars to participate in an internship in a State VR agency as a requirement for program completion. They stated that internships may not be available in a State VR agency, particularly for those pursuing a rehabilitation program for serving individuals who are deaf or hard of hearing. Commenters stated that some State VR agencies may not have individuals qualified to supervise such internships, whereas other related agencies in the community may be able to provide internship opportunities that offer qualified supervisors and that would ultimately be more beneficial for scholars.

Discussion: We recognize that there may be some instances in which an institution of higher education receiving funds under this priority will need to develop internships in agencies other than the State VR agency. For this reason, paragraph (c)(5) of the priority provides an exception to this requirement in the event that a State VR agency cannot provide an internship in a scholar's field of study or if applicants demonstrate that it is otherwise not feasible for all students to complete an internship in a State VR agency. For example, if an applicant demonstrates that it is not feasible to provide the scholar an internship in a State VR agency because there are no staff able to supervise the individual or because the distance that the scholar would have to travel to the State VR agency is too great, then the scholar could be provided an internship in a related agency as defined in 34 CFR 386.4.

Changes: None.

Comment: Two commenters discussed the importance of coordination among professional associations, long-term training programs, and State VR agencies, specifically in the field of vocational evaluation. They indicated that collaboration would provide robust discussions, opportunities both for student training and for continuing education of professional evaluators, connections with associations that offer certifications, consultative support to long-term training programs and State VR agencies, and the identification of employment opportunities for rehabilitation professionals.

Discussion: We agree with these commenters regarding the importance of collaboration among professional associations, long-term training programs, and State VR agencies. Nothing in this priority would prevent an applicant from developing collaborations with professional associations. However, we do not believe that it is necessary to make this a requirement.

Changes: None.

Comment: One commenter expressed concern about use of the term “rehabilitation specialty” to describe the nine specific emphases in this priority. This commenter felt the term “rehabilitation specialty” when referring to professional areas of focus other than VR counseling demeans these professions.

Discussion: This priority describes training programs for a number of rehabilitation professionals. The use of the term “rehabilitation specialty” is simply a convenient and easily understood term to distinguish between the general VR counselor training programs the Department funds and the programs described in this priority that train professionals who work with certain disability populations or who have skills in specific aspects of rehabilitation.

Changes: None.

Comment: One commenter asked that the priority specifically mention individuals who are deaf-blind or late-deafened in the discussion of rehabilitation of individuals who are deaf or hard of hearing. The commenter emphasized that individuals who are deaf, hard of hearing, late-deafened, and deaf-blind are four discrete populations with differing cultural, psychosocial, communication, and technology needs.

Discussion: We recognize that the four populations of individuals with disabilities mentioned by the commenter have varying needs and that having coursework to train rehabilitation professionals to address these needs would be appropriate. The specialty area includes all four of these populations and nothing in this priority would prevent an applicant from proposing coursework that would address the rehabilitation needs of all four populations.

Changes: None.

Comment: Several commenters discussed the need for individuals trained as vocational evaluators to learn how to assess the strengths of individuals who are deaf. They were concerned that individuals graduating with a degree in vocational evaluation often do not get the training they need to accurately perform these assessments. They encouraged coursework to address this need.

Discussion: We agree that assessing the vocational strengths and service needs of individuals who are deaf requires special training. Nothing in this priority would prevent an applicant from proposing vocational evaluation coursework to teach the skills needed to accurately assess the vocational strengths and service needs of individuals who are deaf. Such coursework would fit squarely within the training programs the priority is designed to support. We expect that the peer review process will reward applicants that address this issue.

Changes: None.

Comment: Several commenters suggested that, as tuition and other costs increase, grants funded under this priority should receive more funding. These commenters indicated that institutions of higher education may be discouraged from applying if grants are not funded at higher level.

Discussion: We recognize that higher education is becoming more expensive for students every year. As a result, scholarship support may be available to fewer students or cover a smaller proportion of their overall tuition and fees. However, we do not typically set out funding levels in our priorities. The Department retains the authority to increase maximum award sizes in future years under this program in a notice inviting applications, if we deem it appropriate.

Changes: None.

Final Priority

Rehabilitation Specialty Areas

The Assistant Secretary for Special Education and Rehabilitative Services announces a priority to fund programs leading to a master's degree or certificate in one of nine specialty areas: (1) Rehabilitation Administration; (2) Rehabilitation Technology; (3) Vocational Evaluation and Work Adjustment; (4) Rehabilitation of Individuals Who Are Mentally Ill; (5) Rehabilitation Psychology; (6) Specialized Personnel for Rehabilitation of Individuals Who Are Blind or Have Vision Impairments; (7) Rehabilitation of Individuals Who Are Deaf or Hard of Hearing; (8) Job Development and Job Placement Services; and (9) Comprehensive System of Personnel Development. The goal of this priority is to increase the skills of scholars in these rehabilitation specialty areas so that, upon successful completion of their master's degree or certificate programs, they are prepared to effectively meet the needs and demands of consumers with disabilities.

Under this priority, applicants must:

(a) Provide data on the current and projected employment needs and personnel shortages in the specialty area in State VR agencies and other related agencies as defined in 34 CFR 386.4 in their local area, region, and State, and describe how the proposed program will address those employment needs and personnel shortages.

(b) Describe how the proposed program will provide rehabilitation professionals with the skills and knowledge that will help ensure that the individuals with disabilities whom they serve can meet current demands and emerging trends in the labor market, including how:

(1) The curriculum provides a breadth of knowledge, experience, and rigor that will adequately prepare scholars to meet the employment needs and goals of VR consumers and aligns with evidence-based and competency-based practices in the rehabilitation specialty area;

(2) The curriculum prepares scholars to meet all applicable certification standards;

(3) The curriculum addresses new or emerging consumer needs or trends at the national, State, and regional levels in the rehabilitation specialty area;

(4) The curriculum teaches scholars to address the needs of individuals with disabilities who are from diverse cultural backgrounds;

(5) The curriculum trains scholars to assess the assistive technology needs of consumers, identify the most appropriate assistive technology services and devices for assisting consumers to obtain and retain employment, and train consumers to use such technology;

(6) The curriculum teaches scholars to work with employers effectively in today's economy, including by teaching strategies for developing relationships with employers in their State and local areas, identifying employer needs and skill demands, making initial employer contacts, presenting job-ready clients to potential employers, and conducting follow-up with employers; and

(7) The latest technology is incorporated into the methods of instruction (e.g., the use of distance education to reach scholars who live far from the university and the use of technology to acquire labor market information).

(c) Describe their methods to:

(1) Recruit highly capable prospective scholars who have the potential to successfully complete the academic program, all required practicum and internship experiences, and the required service obligation;

(2) Educate potential scholars about the terms and conditions of the service obligation under 34 CFR 386.4, 386.34, and 386.40 through 386.43 so that they will be fully informed before accepting a scholarship;

(3) Maintain a system that ensures that scholars sign a payback agreement and an exit form when they exit the program, regardless of whether they drop out, are removed, or successfully complete the program;

(4) Provide academic support and counseling to scholars throughout the course of the academic program to ensure successful completion;

(5) Ensure that all scholars complete an internship in a State VR agency or a related agency as a requirement for completion of a program leading to a master's degree. The internship must be in a State VR agency unless the VR agency does not directly perform work related to the scholar's course of study or an applicant can provide sufficient justification that it is not feasible for all students receiving scholarships to complete an internship in a State VR agency. In such cases, the applicant may require scholars to complete an internship in a related agency, as defined in 34 CFR 386.4. Circumstances that would constitute sufficient justification may include, but are not limited to, a lack of capacity at the State VR agency to provide adequate supervision of scholars during their internship experience and the physical distance between scholars and the nearest office of the State VR agency (e.g., for scholars enrolled in distance-learning programs or at rural institutions). Applicants should include a written justification in the application or provide it to RSA for review and approval by the appropriate RSA Project Officer no later than 30 days prior to a scholar beginning an internship in a related agency. For applicants proposing a certificate program, the requirement for an internship in a State VR agency or a related agency is waived unless the certificate program has an internship requirement.

(6) Provide career counseling, including informing scholars of professional contacts and networks, job leads, and other necessary resources and information to support scholars in successfully obtaining and retaining qualifying employment;

(7) Maintain regular contact with scholars upon successful program completion to ensure that they have support during their search for qualifying employment as well as support during the initial months of their employment (e.g., by matching scholars with mentors in the field);

(8) Maintain regular communication with scholars after program exit to ensure that their contact information is current and that documentation of employment is accurate and meets the regulatory requirements for qualifying employment; and

(9) Maintain accurate information on, while safeguarding the privacy of, current and former scholars from the time they are enrolled in the program until they successfully meet their service obligation.

(d) Describe a plan for developing and maintaining partnerships with State VR agencies and community-based rehabilitation service providers that includes:

(1) Coordination between the grantee and the State VR agencies and community-based rehabilitation service providers that will promote qualifying employment opportunities for scholars and formalized on-boarding and induction experiences for new hires;

(2) Formal opportunities for scholars to obtain work experiences through internships, practicum agreements, job shadowing, and mentoring opportunities; and

(3) When applicable, a scholar internship assessment tool that is developed to ensure a consistent approach to the evaluation of scholars in a particular program. The tool should reflect the specific responsibilities of the scholar during the internship. The grantee and worksite supervisor are encouraged to work together as they see fit to develop the assessment tool. Supervisors at the internship site will complete the assessment detailing the scholar's strengths and areas for improvement that must be addressed and provide the results of the assessment to the grantee. The grantee should ensure that (i) scholars are provided with a copy of the assessment and all relevant rubrics prior to beginning their internship, (ii) supervisors have sufficient technical support to accurately complete the assessment, and (iii) scholars receive a copy of the results of the assessment within 90 days of the end of their internship.

(e) Describe how scholars will be evaluated throughout the entire program to ensure that they are proficient in meeting the needs and demands of today's consumers and employers, including the steps that will be taken to provide assistance to a scholar who is not meeting academic standards or who is performing poorly in a practicum or internship setting.

(f) Describe how the program will be evaluated. Such a description must include:

(1) How the program will determine its effect over a period of time on filling vacancies in the State VR agency with qualified rehabilitation professionals capable of providing quality services to consumers;

(2) How input from State VR agencies and community-based rehabilitation service providers will be included in the evaluation;

(3) How feedback from consumers of VR services and employers (including the assessments described in paragraph (d)(3)) will be included in the evaluation;

(4) How data from other sources, such as those from the Department on the State VR program, will be included in the evaluation; and

(5) How the data and results from the evaluation will be used to make necessary adjustments and improvements to the program.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities. The benefits of the Rehabilitation Long-Term Training program have been well established over the years through the successful completion of similar projects. Grants to provide funding for scholars to acquire master's degrees and certificates in the rehabilitation specialty areas listed in this notice are needed to ensure that State VR agencies and related agencies have a supply of qualified rehabilitation professionals with the skills to help individuals with disabilities to achieve employment in today's economy.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 18, 2014.
Melody Musgrove,
Director, Office for Special Education Programs.

[FR Doc. 2014-17370 Filed 7-22-14; 8:45 am]

BILLING CODE 4000-01-P